DEPARTMENT OF ENERGY

Federal Energy Regulatory Commission

[Docket No. CP15-61-000]

Northern Natural Gas Company; Notice of Staff Protest to Proposed Blanket Certificate Activity

Commission staff (Protestor) hereby protests the prior notice request filed under the provisions of part 157, subpart F, of the Commission's regulations, by Northern Natural Gas Company (Northern) on January 20, 2015 in the above referenced docket. Pursuant to its part 157, subpart F, blanket certificate authority, Northern proposes to construct and abandon facilities in Clark and Codington Counties, South Dakota. Protestor seeks to have this prior notice request processed as a case-specific application filed under section 7(c) of the Natural Gas Act and part 157, subpart A, of the Commission's regulations.¹

¹ Section 157.205(f) provides that a protested prior notice filing shall be treated as though it had filed a case-specific application under NGA section 7, unless, pursuant to section 157.205(g) the protestor withdraws its protest within 30 days after protests were due.

Protestor notes that on February 27, 2015, Northern filed a data response which described communication with the Sisseton-Wahpeton Oyate of the Lake Traverse Reservation (tribe). The tribe indicated that it would be necessary to conduct a Traditional Cultural Properties (TCP) survey to ensure that no TCPs would be affected by construction. Northern has not yet provided the results of the TCP survey. Northern must file with the FERC the results of the TCP survey and/or updated communication with the tribe to ensure the project's compliance with the National Historic Preservation Act, as required under Appendix II to Subpart F of Part 157 of the Commission's regulations. Without this information, environmental concerns cannot be adequately assessed before the protest period expires today.

Dated: March 31, 2015.
Kimberly D. Bose,
Secretary.

[FR Doc. 2015-07795 Filed 4-3-15; 8:45 am]

BILLING CODE 6717-01-P